DEPARTMENT OF JUSTICE

Notice of Lodging of Proposed Second Amendment to Consent Decree Under the Resource Conservation and Recovery Act

On January 11, 2022, the Department of Justice lodged a proposed second amendment to a consent decree with the United States District Court for the Southern District of Texas in the lawsuit entitled United States v. Formosa Plastics Corporation, Texas, et al., Civil Action No. 09-00061.

Under the original 2010 consent decree, Formosa Plastics Corporation, Texas, Formosa Hydrocarbons, Inc. (now Formosa Hydrocarbons Company, Inc.) (collectively “FPC TX”), and Formosa Plastics Corporation, Louisiana (collectively “Defendants”) agreed to undertake numerous measures to come into compliance with various environmental statutes and regulations at their facilities in Point Comfort, Texas, and Baton Rouge, Louisiana. The Defendants still are in the process of complying with the 2010 Decree and the 2013 First Amendment to the Consent Decree. Under the 2010 consent decree, Defendant FPC TX is required to manage and dispose of its wastewater treatment system sludge as a listed hazardous waste under the Resource Conservation and Recovery Act, 42 U.S.C. 6901 et seq. (“RCRA”), because the company treats a RCRA listed hazardous waste (recovered groundwater from its contaminated groundwater treatment system) in its wastewater system. Under the proposed Second Amendment, FPC TX will cease treating the recovered groundwater onsite, and instead send the recovered wastewater offsite to a RCRA permitted hazardous waste treatment, storage, and disposal facility. Accordingly, the RCRA hazardous waste listing will no longer carry through to the wastewater sludge. In doing so, FPC TX will eliminate the wastewater sludge hazardous waste stream. FPC TX also will clean the wastewater treatment system to eliminate hazardous waste residue.

The publication of this notice opens a period for public comment on the proposed Consent Decree. Comments should be addressed to the Assistant Attorney General, Environment and Natural Resources Division, and should refer to United States v. Formosa Plastics Corporation, Texas, et al., D.J. Ref. No. 90-5-2-1-08995. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed second amendment may be examined and downloaded at this Justice Department website: https://www.justice.gov/enrd/consent-decrees. We will provide a paper copy of the proposed amendments upon written request and payment of reproduction costs. Please mail your request and payment to: Consent Decree Library, U.S. DOJ—ENRD, P.O. Box 7611, Washington, DC 20044-7611.

Please enclose a check or money order for $ 2.25 (25 cents per page reproduction cost) payable to the United States Treasury.

Thomas Carroll,
Assistant Section Chief, Environmental Enforcement Section, Environment and Natural Resources Division.

[FR Doc. 2023-00960 Filed 1-18-23; 8:45 am]

BILLING CODE P